ENVIRONMENTAL PROTECTION AGENCY

40 CFR Part 75

Continuous Emissions Monitoring

CFR Correction

In Title 40 of the Code of Federal Regulations, Parts 72 to 80, revised as of July 1, 2000, part 75 is corrected in § 75.10 by adding paragraph (g), and in § 75.32 by adding a sentence to paragraph (a)(3) after the second sentence to read as follows:

§ 75.10 General operating requirements.

* * * * *

(g) Minimum Recording and Reporting Requirements. The owner or operator shall record and the designated representative shall report the hourly, daily, quarterly, and annual information collected under the requirements of this part as specified in subparts F and G of this part.

§ 75.32 Determination of monitor data availability for standard missing data procedures.

* * * * *

(a) * * *

(3) * * * For a unit that has accumulated less than 8,760 unit operating hours in the previous three years (26,280 clock hours), replace the words “during previous 8,760 unit operating hours” in Equation 9 with “in the previous three years” and replace “8,760” with “total unit operating hours in the previous three years”.

* * * * *

[FR Doc. 01-55518 Filed 6-12-01; 8:45 am]

BILLING CODE 1505-01-D